SMALL BUSINESS ADMINISTRATION

[Disaster Declaration #12651 and #12652]

Indiana Disaster Number #IN-00037

AGENCY: U.S. Small Business Administration.

ACTION: Amendment 1.

SUMMARY: This is an amendment of the Presidential declaration of a major disaster for Public Assistance Only

for the State of Indiana (FEMA—1997—DR), dated 06/23/2011.

Incident: Severe Storms, Tornadoes, Straight-line Winds, and Flooding.

Incident Period: 04/19/2011 through 06/06/2011.

Effective Date: 07/15/2011.

Physical Loan Application Deadline Date: 08/22/2011.

Economic Injury (EIDL) Loan Application Deadline Date: 03/23/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Indiana, dated 06/23/2011, is hereby amended to establish the incident period for this disaster as beginning 04/19/2011 and continuing through 06/06/2011.

All other information in the original declaration remains unchanged.

(Catalog of Federal Domestic Assistance Numbers 59002 and 59008)

Lisa Lopez-Suarez,
Acting Associate Administrator for Disaster Assistance.

[FR Doc. 2011-18788 Filed 7-25-11; 8:45 am]

BILLING CODE 8025-01-P